DEPARTMENT OF ENERGY

Federal Energy Regulatory Commission

[Project No. 2716-047]

Notice of Application for Partial Transfer of License and Soliciting Comments, Motions To Intervene, and Protests: Virginia Electric and Power Company d/b/a Dominion Energy Virginia; Allegheny Generating Company; Bath County Energy, LLC

On September 29, 2017, Virginia Electric and Power Company, d/b/a Dominion Energy Virginia (VEPCO) and Allegheny Generating Company (AGC) (co-licensees/transferors) and Bath County Energy, LLC (transferee/BCE) filed an application to partially transfer the license for the Bath County Pumped Storage Project No. 2716. The project is located Back Creek and Little Back Creek in Bath County, Virginia. The project does not occupy Federal lands.

The applicants seek Commission approval to partially transfer the license for the Bath County Pumped Storage Project from the Virginia Electric and Power Company, d/b/a Dominion Energy Virginia and Allegheny Generating Company as co-licensees to add Bath County Energy, LLC as a third co-licensee.

Applicants Contact: For transferors: VEPCO: Mr. Donald H. Clarke and Mr. Joshua E. Adrian, Duncan, Weinberg, Genzer & Pembroke, P.C., 1615 M Street NW., Suite 800, Washington, DC 20036, Phone: 202-467-6370, Emails: dhc@dwgp.com and jea@dwgp.com and Mr. Michael Regulinski, Managing General Counsel and Ms. Cherie Yochelson, Senior Counsel, Dominion Energy Services, Inc., 120 Tredegar Street, RS-2, Richmond, VA 23219, Phone: 804-819-2794, Emails: Michael.Regulinski@dominionenergy.com and Cherie.M.Yochelson@dominionenergy.com.

AGC: Mr. John A. Whittaker. IV and Ms. Kimberly Ognisty, Winston & Strawn LLP, 1700 K Street NW., Washington, DC 20006, Phones: 202-282-5766 and 202-282-5217, Emails: jwhittak@winston.com and kognisty@winston.com and Mr. Morgan E. Parke, Associate General Counsel and Karen A. Sealy, Attorney, FirstEnergy Service Company, 76 South Main Street, Arkon, OH 44308, Phones: 330-384-4595 and 330-761-7869, Emails: mparke@firstenergycorp.com and ksealy@firstenergycorp.com.

For transferee: BCE: Mr. David R. Poe and Ms. Serena A. Rwejuna, Bracewell LLP, 2001 M Street NW., Suite 900, Washington, DC 20036, Phone: 202-467-6370, Emails: dave.poe@bracewelllaw.com and serena.rwejuna@bracewell.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2716-047.

Dated: October 18, 2017.
Kimberly D. Bose,
Secretary.

[FR Doc. 2017-23112 Filed 10-24-17; 8:45 am]

BILLING CODE 6717-01-P